DEPARTMENT OF HOUSING AND URBAN DEVELOPMENT

[Docket No. FR-5607-N-25]

Notice of Proposed Information Collection: Comment Request; Section 8 Renewal Policy Guide

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: October 9, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Catherine Brennan, Director, Office of Housing Assistance and Grant Administration, Department of Housing and Urban Development, 451 7th Street SW., Washington, DC 20410, telephone (202) 708-3000, extension 6732 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Section 8 Renewal Policy Guide.

OMB Control Number, if applicable: 2502-0587.

Description of the need for the information and proposed use: The modifications of the Section 8 renewal policy and recent legislation are implemented to address the essential requirement to preserving low income rental housing affordability and availability. The Section 8 Renewal Policy Guide will include recent legislation modifications for renewing of expiring Section 8 policy(ies) Guidebook, as authorized by the Code of Federal Regulations 24 CFR part 401 and 24 CFR part 402.

The Multifamily Housing Reform and Affordability Act of 1997 (MAHRA) for fiscal year 1998 (Pub. L. 105-65, enacted on October 27, 1997), required that expiring Section 8 project-based assistance contracts be renewed under MAHRA. Established in the MAHRA policies renewal of Section 8 project-based contracts rent are based on market rents instead of the Fair Market Rent (FMR) standard.

MAHRA renewals submission should include a Rent Comparability Study (RCS). If the RCS indicated rents were at or below comparable market rents, the contract was renewed at current rents adjusted by Operating Cost Adjustment Factor (OCAF), unless the Owner submitted documentation justifying a budget-based rent increase or participation in Mark-Up-To-Market. The case is that no renewal rents could exceed comparable market rents. If the RCS indicated rents were above comparable market rents, the contract was referred to the Office of Affordable Housing Preservation (OAHP) for debt restructuring and/or rent reduction.

The Preserving Affordable Housing for Senior Citizens and Families Into the 21st Century Act of 1999 (Pub. L. 106-74, enacted on October 20, 1999), modified MAHRA.

The Section 8 Renewal Policy Guide sets forth six renewal options from which a project owner may choose when renewing their expiring Section 8 contract: Option One—Mark-Up-To-Market, Option Two—Other Contract Renewal with Current Rents at or Below Comparable Market Rents, Option Three—Referral to the Office of Affordable Preservation (OAHP), Option Four—Renewal of Projects Exempted From OMHAR, Option Five—Renewal of Portfolio Reengineering Demonstration or Preservation Projects, and Option Six—Opt Outs.

Owners should select one of six options which are applicable to their project and should submit contract renewal on an annual basis to renew contract.

The Section 8 Renewal Guide sets forth six renewal options from which a project owner may choose when renewing their expiring Section 8 contracts.

Option One (Mark-Up-To-Market)

Option Two (Other Contract Renewals With Current Rents at or Below Comparable Market Rents)

Option Three (Referral to the Office of Multifamily Housing Assistant Restructuring—OHAP)

Option Four (Renewal of Projects Exempted From OHAP)

Option Five (Renewal of Portfolio Reengineering Demonstration or Preservation Projects)

Option Six (Opt-Outs)

Agency form numbers, if applicable:

Contract Renewal Request Form (HUD-9624) (decreased usage)

OCAF Rent Adjustment Worksheet (HUD-9625) (decreased usage)

Comparability Study Comparison Worksheet, (HUD-9626) (Auto OCAF Letters)

Section 515 and Section 221(d)(3) BMIR Worksheet (HUD-9627) (Auto OCAF Letters)

Other New Construction and Sub-Rehab Worksheet (HUD-9628)

Appraiser Certification (HUD-9629)

Rent Comparability Grid (HUD-9630)

One Year Notification Owner Does Not Intend To Renew (HUD-9631)

One Year Notification Letter Owner Intends To Renew (HUD-9632)

Use Agreement (HUD-9633)

Addendum to Agreement To Enter Into

Housing Assistance Payments Contract (HUD-9634)

Appendix 15-3 Project Capital Needs Assessments and Replacement

Reserve Escrow (HUD-9635)

Projects Preparing a Budget-Based Rent Increase (HUD-9636)

Basic Renewal Contract—One Year Term (HUD-9637)

Basic Renewal Contract—Multi-Year Term (HUD-9638)

Renewal Contract for Mark-Up-To-Market Project (HUD-9639)

Housing Assistance Payments Preservation Renewal Contract (HUD-9640)

Interim (Full) Mark-To-Market Renewal Contract (HUD-9641)

Interim (Lite) Mark-To-Market Renewal Contract (HUD-9642)

Full Mark-To-Market Renewal Contract (HUD-9643)

Watch List Renewal Contract (HUD-9644)

Project Based Assistance Payments Amendment Contract Moderate Rehabilitation (HUD-9645)

Project Based Section Housing Assistance Payments Extension of Renewal Contract (HUD-9646)

Consent to Assignment of HAP Contract as Security for Financing (HUD-9649)

Consent to Assignment of HAP Contract as Security for FNMA Financing (HUD-9651)

Request To Renew Using Non-Section 8 Units in the Section 8 Project as a Market Rent Ceiling (HUD-9652)

Request To Renew Using FMR's as Market Ceiling (HUD-9653)

Addendum To Renewal Contract (HUD-9654)

Rent Comparability Study (HUD-9655)

Rent Comparability Grid (HUD-9656)

Completing the Rent Comparability Grid (HUD-9657)

Required Contents for Rent Comparability Study (HUD-9658)

Estimation of the total numbers of hours needed to prepare the information collection including number of respondents, frequency of response, and hours of response: The number of burden hours is 33,477. The number of respondents is 33,477, the number of responses is 33,477, the frequency of response is on occasion, and the burden hour per response is 1.

Status of the proposed information collection: This is a revision of a collection.

Authority: The Paperwork Reduction Act of 1995, 44 U.S.C., chapter 35, as amended.

Dated: August 1, 2012.
Laura M. Marin,
Acting General Deputy Assistant Secretary for Housing-Acting General Deputy Federal Housing Commissioner

[FR Doc. 2012-19326 Filed 8-7-12; 8:45 am]

BILLING CODE 4210-67-P